DEPARTMENT OF THE INTERIOR

National Park Service

[NPS-WASO-NAGPRA-11728; 2200-1100-665]

Notice of Inventory Completion: U.S. Department of Defense, Army, Fort Sill Museum, Fort Sill, OK, and Museum of the Great Plains, Lawton, OK

AGENCY: National Park Service, Interior.

ACTION: Notice.

SUMMARY: The U.S. Department of Defense, Army, Fort Sill Museum, and the Museum of the Great Plains have completed an inventory of human remains, in consultation with the appropriate Indian tribes, and have determined that there is no cultural affiliation between the remains and any present-day Indian tribe. Representative of any Indian tribe that believes itself to be culturally affiliated with the human remains may contact the Fort Sill Museum. Disposition of the human remains to the Indian tribes stated below may occur if no additional requestors come forward.

DATES: Representatives of any Indian tribe that believes it has a cultural affiliation with the human remains should contact the Fort Sill Museum at the address below by January 17, 2013.

ADDRESSES: Scott A. Neel, Ph.D., Director, Fort Sill National Historic Landmark and Museum, U.S. Army Fires Center of Excellence, Fort Sill, OK 73503, telephone (580) 442-6570.

SUPPLEMENTARY INFORMATION: Notice is here given in accordance with the Native American Graves Protection and Repatriation Act (NAGPRA), 25 U.S.C. 3003, of the completion of an inventory of human remains under the control of the Fort Sill Museum and in the possession of the Museum of the Great Plains. The human remains were removed from Fort Sill, Comanche County, OK.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Fort Sill Museum and the Museum of the Great Plains professional staffs in consultation with representatives the Apache Tribe of Oklahoma; Caddo Nation of Oklahoma; Cheyenne and Arapaho Tribes, Oklahoma (previously listed as the Cheyenne-Arapaho Tribes of Oklahoma); Chickasaw Nation; Comanche Nation, Oklahoma; Delaware Nation, Oklahoma; Fort Sill Apache Tribe of Oklahoma; Kiowa Indian Tribe of Oklahoma; and the Wichita and Affiliated Tribes (Wichita, Keechi, Waco & Tawakonie), Oklahoma.

History and Description of the Remains

In March 1977, human remains representing, at minimum, two individuals were removed from site 34CM323 in Comanche County, OK. Staff of the Museum of the Great Plains found the human remains during a reconnaissance survey on Federal property in Fort Sill. The burials were exposed by natural elements on the bank of Crater Creek, were excavated by staff of the Museum of the Great Plains, and were sent to the Osteology Laboratory of the Institute of Applied Sciences at North Texas State University. The burials remained at North Texas State University until January 27, 2012, when, at the request of the Fort Sill Museum, they were returned to the Museum of the Great Plains. The Museum of the Great Plains physically inventoried the remains for NAGPRA purposes and stabilized the remains according to 36 CFR 79 standards. No known individuals were identified. No associated funerary objects are present.

Barbara H. Butler, Ph.D., of North Texas State University, analyzed the remains in 1977, and concluded that the remains from this site represented two individuals. Human remains from Burial 2, with only a few small occipital pieces, represented one adult. Human remains from Burial 1 consisted of fragmentary remains of a nine-year-old child, based upon dental analysis. The dental remains from Burial 1 were moderately shovel-shaped, and Butler concluded the remains were probably Native American. The human remains were shallowly buried in alluvium deposits, and no pit profile could be detected during excavations. The body positions suggested that the burials were placed in a pit excavated into the alluvium deposits, and are therefore younger than those deposits. A 1978 geologic inspection of the site estimates the age of the alluvium deposits as “late Holocene to early historic.” The lack of soil development, as well as the preservation of bones in acidic soils, suggest but do not confirm a late prehistoric to historic age for the burials.

Prehistorically and historically, Native Americans have inhabited the area near Fort Sill in southwest Oklahoma, based on evidence of archaeology, geology, and historical accounts. The people of the Wichita, Comanche, Kiowa, Apache, Cheyenne, and Arapaho tribes are well documented in the area, and their presence was the reason Fort Sill was established.

Determinations Made by the U.S. Department of Defense, Army, Fort Sill Museum and the Museum of the Great Plains

Officials of the Fort Sill Museum and the Museum of the Great Plains have determined that:

• Based on physical characteristics of the dental analysis, the human remains are Native American.

• Pursuant to 25 U.S.C. 3001(9), the human remains described in this notice represent the physical remains of two individuals of Native American ancestry.

• Pursuant to 25 U.S.C. 3001(2), a relationship of shared group identity cannot be reasonably traced between the Native American human remains and any present-day Indian tribe.

• Multiple lines of evidence, including treaties, Acts of Congress, and Executive Orders, indicate that the Apache Tribe of Oklahoma; Cheyenne and Arapaho Tribes, Oklahoma (previously listed as the Cheyenne-Arapaho Tribes of Oklahoma); Chickasaw Nation; Comanche Nation, Oklahoma; Kiowa Indian Tribe of Oklahoma; and the Wichita and Affiliated Tribes (Wichita, Keechi, Waco & Tawakonie), Oklahoma, are aboriginal to the area from which the human remains were removed.

• Pursuant to 43 CFR 10.11(c)(1), the disposition of the human remains may be to the Apache Tribe of Oklahoma; Cheyenne and Arapaho Tribes, Oklahoma (previously listed as the Cheyenne-Arapaho Tribes of Oklahoma); Chickasaw Nation; Comanche Nation, Oklahoma; Kiowa Indian Tribe of Oklahoma; and the Wichita and Affiliated Tribes (Wichita, Keechi, Waco & Tawakonie), Oklahoma.

Additional Requestors and Disposition

Representatives of any Indian tribe that believes itself to be culturally affiliated with the human remains or any other Indian tribe that believes it satisfies the criteria in 43 CFR 10.11(c)(1) should contact Scott A. Neel, Ph.D., Director, Fort Sill National Historic Landmark and Museum, U.S. Army Fires Center of Excellence, Fort Sill, OK 73503, telephone (580) 442-6570. Disposition of the human remains to the Apache Tribe of Oklahoma; Cheyenne and Arapaho Tribes, Oklahoma (previously listed as the Cheyenne-Arapaho Tribes of Oklahoma); Chickasaw Nation; Comanche Nation, Oklahoma; Kiowa Indian Tribe of Oklahoma; and the Wichita and Affiliated Tribes (Wichita, Keechi, Waco & Tawakonie), Oklahoma, may proceed after that date if no additional requestors come forward.

The Fort Sill Museum is responsible for notifying the Apache Tribe of Oklahoma; Caddo Nation of Oklahoma; Cheyenne and Arapaho Tribes, Oklahoma (previously listed as the Cheyenne-Arapaho Tribes of Oklahoma); Chickasaw Nation; Comanche Nation, Oklahoma; Delaware Nation, Oklahoma; Fort Sill Apache Tribe of Oklahoma; Kiowa Indian Tribe of Oklahoma; and the Wichita and Affiliated Tribes (Wichita, Keechi, Waco & Tawakonie), Oklahoma, that this notice has been published.

Dated: November 13, 2012.
David Tarler,
Acting Manager, National NAGPRA Program.

[FR Doc. 2012-30438 Filed 12-17-12; 8:45 am]

BILLING CODE 4312-50-P